DEPARTMENT OF DEFENSE

Office of the Secretary

[Docket ID DoD-2014-OS-0099]

Privacy Act of 1974; System of Records

AGENCY: National Guard Bureau, DoD.

ACTION: Notice to add a new System of Records.

SUMMARY: The National Guard Bureau proposes to add a new system of records, INGB 007, entitled, “Guard Equipment Acquisition Records” to its inventory of record systems subject to the Privacy Act of 1974, as amended. The information in this system will be used to track designated personnel authorized to manage records for new equipment requirements and distribution to Army National Guard units.

DATES: Comments will be accepted on or before July 28, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, 111 South George Mason Drive, AH2, Arlington, VA 22204-1373 or telephone: (571) 256-7838.

SUPPLEMENTARY INFORMATION: The National Guard Bureau notices for systems of records subject to the Privacy Act of 1974 (5 U.S.C. 552a), as amended, have been published in the Federal Register and are available from the address in FOR FURTHER INFORMATION CONTACT or from the Defense Privacy and Civil Liberties Web site at http://dpclo.defense.gov/.

The proposed system report, as required by 5 U.S.C. 552a(r) of the Privacy Act of 1974, as amended, was submitted on March 14, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 20, 2014.
Aaron Siegel,
Alternate OSD Federal Register Liaison Officer, Department of Defense.

SYSTEM IDENTIFIER:

INGB 007

System name:

Guard Equipment Acquisition Records.

System location:

National Guard Bureau Army National Guard Materiel Programs Division: Planning and Integration, 111 South George Mason Drive, Arlington, VA 22204-1382.

Categories of individuals covered by the system:

Department of Defense military and civilian personnel assigned to National Guard Bureau Army National Guard Materiel Programs Division.

Categories of records in the system:

Full name of individual managing records; organizational email address; organizational telephone; and military rank/grade.

Authority for maintenance of the system:

10 U.S.C. 10502, Chief, National Guard Bureau; Department of Defense Instruction 7045.7: Implementation of the Planning, Programming, and Budgeting Systems (PPBS); and Department of Defense Instruction 1225.06: Equipping the Reserve Forces.

Purpose(s):

To track designated personnel authorized to manage records for new equipment requirements and distribution to Army National Guard units.

Routine uses of records maintained in the system including categories of users and the purpose of such uses:

In addition to those disclosures generally permitted under 5 U.S.C. 552a(b) of the Privacy Act of 1974, as amended, these records contained therein may specifically be disclosed outside the (DoD) as a routine use pursuant to 5 U.S.C. 552a(b)(3) as follows:

The DoD Blanket Routine Uses may apply to this system.

Policies and practices for storing, retrieving, accessing, retaining, and disposing of records in the system:

Storage:

Electronic storage media.

Retrievability:

Records are retrieved by individual's name.

Safeguards:

Access to the database is strictly limited to authorized individuals with common access cards (CAC) issued by the DoD, and the database is maintained behind a firewall. Physical security measures include security guards, controlled access using CACs, and cipher locks.

Retention and disposal:

Disposition pending, records are permanent until the National Archives and Record Administration has approved a retention and disposition schedule for the National Guard Bureau.

System manager(s) and address:

National Guard Bureau Army National Guard Materiel Programs Division: Planning and Integration, 111 S. George Mason Drive, Arlington, VA 22204-1382.

Notification procedure:

Individuals wishing to inquire if the system contains information about themselves should contact the system manager at National Guard Bureau Army National Guard Materiel Programs Division: Planning and Integration Branch Manager, 111 S. George Mason Drive, Arlington, VA 22204-1382.

Written requests must include a signed declaration and include the individual's first, middle and last name, and full mailing address in order to receive a response.

Record access procedures:

Individuals seeking access to information about themselves contained in this system should address written inquiries to: Branch Manager, Army National Guard Materiel Programs Division: Planning and Integration, 111 S. George Mason Drive, Arlington, VA 22204-1382.

Written requests must include a signed declaration and include their first, middle and last name, and full mailing address in order to receive a response.

Contesting records procedures:

The National Guard Bureau rules for accessing records, and for contesting contents and appealing initial agency determinations are published at 32 CFR Part 329 or may be obtained from the system manager.

Record source categories:

User information is provided by individual user.

Exemptions claimed for the system:

None.

[FR Doc. 2014-14987 Filed 6-25-14; 8:45 am]

BILLING CODE 5001-06-P